DEPARTMENT OF COMMERCE

International Trade Administration

Information on Articles for Physically or Mentally Handicapped Persons Imported Free of Duty

ACTION: Proposed collection; comment request.

SUMMARY: The Department of Commerce, as part of its continuing effort to reduce paperwork and respondent burdens, invites the general public and other Federal agencies to take this opportunity to comment on the continuing information collections, as required by the Paperwork Reduction Act of 1995, Public Law 104-13 (44 U.S.C. 3506(C)(2)(A)).

DATES: Written comments must be submitted on or before October 4, 2004.

ADDRESSES: Direct all written comments to Diana Hynek, Departmental Paperwork Clearance Officer, Department of Commerce, Room 6625, 14th & Constitution Avenue, NW., Washington, DC 20230; phone(202) 482-0266 or via the Internet at dHynek@doc.gov.

FOR FURTHER INFORMATION CONTACT: Requests for additional information or copies of the information collection instrument and instructions should be directed to: Faye Robinson, U.S. Department of Commerce, FCB Suite 4100W, 14th Street & Constitution Avenue, NW., Washington, DC 20230; phone (202) 482-1660, fax (202) 482-0949.

SUPPLEMENTARY INFORMATION:

I. Abstract

Congress, when it enacted legislation to implement the Nairobi Protocol to the Florence Agreement, included a provision for the Departments of Commerce and Homeland Security to collect information on the import of articles for the handicapped. Form ITA-362P, Information on Articles for Physically or Mentally Handicapped Persons Imported Free of Duty, is the vehicle by which statistical information is obtained to assess whether the duty-free treatment of articles for the handicapped has had a significant adverse impact on a domestic industry (or portion thereof) manufacturing or producing a like or directly competitive article. Without the collection of data, it would be almost impossible for a sound determination to be made and for the President to appropriately redress the situation.

II. Method of Collection

The Department of Commerce and U.S. Customs and Border Protection (“CBP”) have copies of Form ITA-362P and distribute the form to importers and brokers upon request. Also, Form ITA-362P may be printed from the Statutory Import Programs Staff portion of the Department of Commerce Web site at http://www.ia.ita.doc.gov/sips/ita362p.html. The applicant completes the form and then forwards it to the CBP. Upon acceptance by CBP as a valid application, the application is transmitted to Commerce for processing.

III. Data

OMB Number: 0625-0118.

Form Number: ITA-362P.

Type of Review: Extension-Regular Submission.

Affected Public: Businesses or other for-profit, not-for-profit institutions, state, local or tribal governments, federal government, individuals or households.

Estimated Number of Respondents: 240.

Estimated Time per Response: 4 mins.

Estimated Total Annual Burden Hours: 337.

Estimated Total Annual Cost: $17,748 ($4,048 for respondents and $13,700 for federal government).

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 29, 2004.
Madeleine Clayton,
Management Analyst, Office of the Chief Information Officer.

[FR Doc. 04-17700 Filed 8-3-04; 8:45 am]

BILLING CODE 3510-DS-P